DEPARTMENT OF ENERGY

Federal Energy Regulatory Commission

Combined Notice of Filings #1

April 05, 2010.

Take notice that the Commission received the following electric corporate filings:

Docket Numbers: EC10-56-000.

Applicants: Lost Creek Wind, LLC.

Description: Application of Lost Creek Wind, LLC for Authorization of Disposition of Jurisdictional Facilities, and Requests for Waivers of Certain Filing Requirements, Shortened Comment Period and Expedited Consideration.

Filed Date: 03/26/2010.

Accession Number: 20100326-5110.

Comment Date: 5 p.m. Eastern Time on Friday, April 16, 2010.

Docket Numbers: EC10-58-000.

Applicants: Florida Power & Light Company, New Hampshire Transmission, LLC.

Description: Application for Authorization for Disposition of Jurisdictional Facilities, Request for Confidential Treatment, and Request for Expedited Action of Florida Power & Light Company and New Hampshire Transmission, LLC.

Filed Date: 04/01/2010.

Accession Number: 20100401-5164.

Comment Date: 5 p.m. Eastern Time on Thursday, April 22, 2010.

Take notice that the Commission received the following exempt wholesale generator filings:

Docket Numbers: EG10-25-000.

Applicants: Cedro Hill Wind LLC.

Description: Notice of Self-Certification of Exempt Wholesale Generator Status of Cedro Hill Wind LLC.

Filed Date: 04/02/2010.

Accession Number: 20100402-5031.

Comment Date: 5 p.m. Eastern Time on Friday, April 23, 2010.

Take notice that the Commission received the following electric rate filings:

Docket Numbers: ER01-48-016.

Applicants: Powerex Corp.

Description: Powerex Corp submits amendment to the notice in status with respect to events that have taken place since the date of its last change in status filing.

Filed Date: 04/01/2010.

Accession Number: 20100402-0011.

Comment Date: 5 p.m. Eastern Time on Thursday, April 22, 2010.

Docket Numbers: ER03-1330-003.

Applicants: Ebersen, Inc.

Description: Ebersen, Inc submits Second Substitute First Revised Sheet 1 that supersedes Original Sheet 1 to Rate Schedule FERC No 1.

Filed Date: 04/02/2010.

Accession Number: 20100402-0224.

Comment Date: 5 p.m. Eastern Time on Friday, April 23, 2010.

Docket Numbers: ER08-1439-002; EL09-32-002.

Applicants: New Brunswick Power Generation Corporation.

Description: Response to January 15, 2010 Request for Additional Information of New Brunswick Power Generation Corporation.

Filed Date: 03/31/2010.

Accession Number: 20100331-5167.

Comment Date: 5 p.m. Eastern Time on Wednesday, April 21, 2010.

Docket Numbers: ER10-900-001.

Applicants: Black Hills Power, Inc.

Description: Black Hills Power requests that FERC accept its Notice of Cancellation of its Rate Schedule FERC No 48, to be effective 4/1/10.

Filed Date: 04/02/2010.

Accession Number: 20100405-0201.

Comment Date: 5 p.m. Eastern Time on Friday, April 23, 2010.

Docket Numbers: ER10-942-000.

Applicants: ISO New England Inc., New England Power Pool.

Description: ISO New England Inc et al submit revisions to their Financial Assurance Policy and Billing Policy.

Filed Date: 03/26/2010.

Accession Number: 20100329-0207.

Comment Date: 5 p.m. Eastern Time on Friday, April 16, 2010.

Docket Numbers: ER10-989-000.

Applicants: DTE East China, LLC.

Description: DTE East China, LLC submits notice of cancellation of its FERC Electric Tariff, Original Volume No. 3 effective 4/1/2010.

Filed Date: 04/01/2010.

Accession Number: 20100401-0255.

Comment Date: 5 p.m. Eastern Time on Thursday, April 22, 2010.

Docket Numbers: ER10-990-000.

Applicants: Midwest Independent Transmission System Operator, Inc.

Description: Midwest Independent Transmission System Operator, Inc et al submits proposed revisions to: Schedule 7 (Long-Term Firm and Short-Term Firm Point-to-Point Transmission Service et al.

Filed Date: 04/01/2010.

Accession Number: 20100401-0254.

Comment Date: 5 p.m. Eastern Time on Thursday, April 22, 2010.

Docket Numbers: ER10-991-000.

Applicants: Florida Power Corporation.

Description: Florida Power Corporation submits revisions to the formula transmission rate of its Open Access Transmission Tariff concerning the treatment of new transmission radials commencing after 3/31/10.

Filed Date: 04/01/2010.

Accession Number: 20100401-0253.

Comment Date: 5 p.m. Eastern Time on Thursday, April 22, 2010.

Docket Numbers: ER10-992-000.

Applicants: Northern States Power Company—Wisconsin.

Description: Northern States Power Company submits Wisconsin Electric Sales Tariff for Wholesale Full Requirements Services that establishes the rates terms and conditions applicable to service etc.

Filed Date: 04/01/2010.

Accession Number: 20100401-0256.

Comment Date: 5 p.m. Eastern Time on Thursday, April 22, 2010.

Docket Numbers: ER10-993-000.

Applicants: Northeast Utilities Service Company.

Description: Northeast Utilities Service Co submits Localized Costs Responsibility Agreements.

Filed Date: 04/01/2010.

Accession Number: 20100401-0265.

Comment Date: 5 p.m. Eastern Time on Thursday, April 22, 2010.

Docket Numbers: ER10-994-000.

Applicants: Delmarva Power & Light Company.

Description: Delmarva Power & Light Co submits an executed construction agreement.

Filed Date: 04/01/2010.

Accession Number: 20100401-0264.

Comment Date: 5 p.m. Eastern Time on Thursday, April 22, 2010.

Docket Numbers: ER10-995-000.

Applicants: ISO New England Inc.

Description: ISO New England Inc submits First Revised Sheet No. 15C et al to FERC Electric Tariff No. 3.

Filed Date: 04/01/2010.

Accession Number: 20100401-0263.

Comment Date: 5 p.m. Eastern Time on Thursday, April 22, 2010.

Docket Numbers: ER10-996-000.

Applicants: ISO New England Inc.

Description: ISO New England, Inc submits reconciled tariff sheets for compliance with Order No. 614.

Filed Date: 04/01/2010.

Accession Number: 20100401-0272.

Comment Date: 5 p.m. Eastern Time on Thursday, April 22, 2010.

Docket Numbers: ER10-997-000.

Applicants: ISO New England Inc., New England Power Pool.

Description: ISO New England, Inc et al submits FCM Conforming changes to Appendix A to Market Rule 1.

Filed Date: 04/01/2010.

Accession Number: 20100401-0270.

Comment Date: 5 p.m. Eastern Time on Thursday, April 22, 2010.

Docket Numbers: ER10-1002-000.

Applicants: Consolidated Edison Company of New York, Inc.

Description: Consolidated Edison Company of New York, Inc submits amendments to their Delivery Service Rate Schedule 96 et al.

Filed Date: 04/01/2010.

Accession Number: 20100402-0208.

Comment Date: 5 p.m. Eastern Time on Thursday, April 22, 2010.

Docket Numbers: ER10-1003-000.

Applicants: PJM Interconnection, LLC.

Description: PJM Interconnection, LLC submits revised tariff sheets of the PJM Open Access Transmission Tariff and the Amended and Restated Operating Agreement of PJM Interconnection, LLC.

Filed Date: 04/01/2010.

Accession Number: 20100402-0207.

Comment Date: 5 p.m. Eastern Time on Thursday, April 22, 2010.

Docket Numbers: ER10-1004-000.

Applicants: Midwest Independent Transmission System Operator, Inc.

Description: Midwest Independent Transmission System Operator, Inc submits an executed Amended and Restated Interconnection Agreement with the City of Columbia etc.

Filed Date: 04/02/2010.

Accession Number: 20100402-0214.

Comment Date: 5 p.m. Eastern Time on Friday, April 23, 2010.

Docket Numbers: ER10-1005-000.

Applicants: New York Independent System Operator, Inc.

Description: New York Independent System Operator, Inc submits proposed revisions to its Open Access Transmission Tariff and Market Administration and Control Area Services Tariff etc.

Filed Date: 04/02/2010.

Accession Number: 20100402-0215.

Comment Date: 5 p.m. Eastern Time on Friday, April 23, 2010.

Docket Numbers: ER10-1006-000.

Applicants: PJM Interconnection, LLC.

Description: PJM Interconnection, LLC submits an executed Wholesale Market Participation Agreement with SunDurance Energy, LLC et al.

Filed Date: 04/02/2010.

Accession Number: 20100402-0216.

Comment Date: 5 p.m. Eastern Time on Friday, April 23, 2010.

Docket Numbers: ER10-1007-000.

Applicants: Midwest Independent System Operator, Inc.

Description: Midwest Independent System Operator, Inc submits an unexecuted Generator Interconnection Agreement.

Filed Date: 04/02/2010.

Accession Number: 20100402-0226.

Comment Date: 5 p.m. Eastern Time on Friday, April 23, 2010.

Docket Numbers: ER10-1008-000.

Applicants: ALLETE, Inc.

Description: Allete, Inc submits filing to amend the annual “true up” procedures included in its formula rate, full energy and capacity requirements contracts with their wholesale customers located in Northeastern Minnesota et al.

Filed Date: 04/02/2010.

Accession Number: 20100405-0202.

Comment Date: 5 p.m. Eastern Time on Friday, April 23, 2010.

Docket Numbers: ER10-1009-000.

Applicants: PJM Interconnection, LLC.

Description: PJM Interconnection, LLC submits an executed Wholesale Market Participation Agreement with Dynamic Energy Resources, LLC et al.

Filed Date: 04/05/2010.

Accession Number: 20100405-0207.

Comment Date: 5 p.m. Eastern Time on Monday, April 26, 2010.

Docket Numbers: ER10-1010-000.

Applicants: PJM Interconnection, LLC.

Description: PJM Interconnection, LLC submits an executed Wholesale Market Participation Agreement with Dynamic Energy Resources, LLC et al.

Filed Date: 04/05/2010.

Accession Number: 20100405-0206.

Comment Date: 5 p.m. Eastern Time on Monday, April 26, 2010.

Docket Numbers: ER10-1011-000.

Applicants: Southern California Edison Company.

Description: Southern California Edison Company submits revised rate sheets to the Service Agreement for Wholesale Distribution Service with the City of Banning etc.

Filed Date: 04/05/2010.

Accession Number: 20100405-0205.

Comment Date: 5 p.m. Eastern Time on Monday, April 26, 2010.

Docket Numbers: ER10-1012-000.

Applicants: Southern California Edison Company.

Description: Southern California Edison Company submits a revised rate sheet reflecting cancellation of the 1995 San Juan Unit 3 Firm Transmission Service Agreement with the City of Azusa, Rate Schedule FERC 376.

Filed Date: 04/05/2010.

Accession Number: 20100405-0204.

Comment Date: 5 p.m. Eastern Time on Monday, April 26, 2010.

Docket Numbers: ER10-1013-000.

Applicants: Southern California Edison Company.

Description: Southern California Edison Company submits the Large Generator Interconnection Agreement and Service Agreement for Wholesale Distribution Service with Mountain View Power Partners IV, LLC.

Filed Date: 04/05/2010.

Accession Number: 20100405-0203.

Comment Date: 5 p.m. Eastern Time on Monday, April 26, 2010.

Take notice that the Commission received the following open access transmission tariff filings:

Docket Numbers: OA10-7-000.

Applicants: Avista Corporation.

Description: Annual Informational Filing of Operational Penalty Assessments and Distributions as Required by Order Nos. 890 and 890-A.

Filed Date: 03/12/2010.

Accession Number: 20100312-5065.

Comment Date: 5 p.m. Eastern Time on Monday, April 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-8232 Filed 4-9-10; 8:45 am]

BILLING CODE 6717-01-P